DEPARTMENT OF THE INTERIOR

National Park Service

National Register of Historic Places; Notification of Pending Nominations

Nominations for the following properties being considered for listing in the National Register were received by the National Park Service before March 8, 2003. Pursuant to section 60.13 of 36 CFR part 60 written comments concerning the significance of these properties under the National Register criteria for evaluation may be forwarded by United States Postal Service, to the National Register Historic Places, National Park Service, 1849 C St., NW., 2280, Washington, DC 20240; by all other carriers, National Register of Historic Places, National Park Service, 1201 Eye St., NW., 8th floor, Washington DC 20005; or by fax, 202-343-1836. Written or faxed comments should be submitted by April 17, 2003.

Carol D. Shull,
Keeper of the National Register of Historic Places.

ALABAMA

Jefferson County

Federal Reserve Bank of Atlanta—Birmingham Branch, 1801 Fifth Ave. N, Birmingham, 03000230

Mountain Brook Estates Building, 2803 Cahaba Rd., Mountain Brook, 03000232

Lee County

Cullars Rotation, Woodfield Dr., E of US 29, Auburn, 03100231

Wilcox County

Ackerville Baptist Church of Christ, AL 89, Ackerville, 03000228

COLORADO

Douglas County

Santa Fe Railway Water Tank (Railroads in Colorado, 1858-1948 MPS), US 85 W of jct. with CO 67, Sedalia, 03000237

Jefferson County

South Ranch, Address Restricted, Lakewood, 03000227

Larimer County

Kaplan—Hoover Site, Address Restricted, Windsor, 03000229

CONNECTICUT

Fairfield County

Bradley—Hubbell House, 535 Black Rock Turnpike, Easton, 03000235

Hartford County

Thompson, William H., Farmstead, 215 and 219 Melroase Rd., East Windsor, 03000234

New Haven County

Woodbridge Green Historic District, 3,4,7,11 Meetinghouse Ln.; 4, 10 Newton Rd., Woodbridge, 03000233

Tolland County

Andover Center Historic District, Roughly along Herbron Rd., Boston Hill Rd., and US 6, Andover, 03000236

DELAWARE

New Castle County

Delaware Academy of Medicine, 1925 Lovering Ave., Wilmington, 03000240

Delaware Trust Building, 900-912 N. Market St., Wilmington, 03000238

KENTUCKY

Bourbon County

Champ, Thomas, House, Lexington and Maysville Rd., Paris, 03000256

Pocket Rural Historic District, Along See Rd., KY 57 and KY 1198, Sharpsburg vicinity, 03000257

Bracken County

Barkley, George W., Farm, KY 8, Augusta, 03000259

Bradford School House, KY 8 and 1109, Foster, 03000263

Clark County

Civil War fort at Boonesboro, 0.6 mi. N of Ford, W of Fort Hampton Rd., Ford, 03000262

Fayette County

Liggett and Myers Tobacco Re-handling Facility, 200 Bolivar St., Lexington, 03000261

Jefferson County

Axton—Fisher Tobacco Company Warehouse, 1405 W. Broadway, Louisville, 03000260

Finzer, J., and Brothers Company Building, 419 Finzer St., Louisville, 03000264

Louisville Grocery Company Building, 231 E. Main St., Louisville, 03000258

MISSOURI

Greene County

Netter—Ullman Building, 317 Park Central East, Springfield, 03000255

NEW JERSEY

Bergen County

Reformed Dutch Church of Wyckoff, 580 Wyckoff Ave., Wyckoff Township, 03000250

NEW YORK

Delaware County

Ulster and Delaware Railroad Depot and Mill Complex, Depot St., Roxbury, 03000254

Dutchess County

National Biscuit Company Carton Making and Printing Plant, 3 Beekman St., Beacon, 03000253

Neher—Elseffer House, 6196 US 9, Rhinebeck, 03000246

Jefferson County

Dexter Universalist Church, Brown and Kirby Sts., Dexter, 03000249

Emerson Place, 20-30 Emerson Place, Watertown, 03000241

Onondaga County

Drover's Tavern, 4065 Pompey Hollow Rd., Oran, 03000265

Oswego County

Oak Street School, 205 Oak St., Fulton, 03000243

Rensselaer County

Haskell School, 150 Sixth Ave., Troy, 03000244

Suffolk County

Cedar Island Lighthouse, Cedar Point Rd., Sag Harbor, 03000248

Hallock—Bilunas Farmstead, 733 Herricks Ln., Jamesport, 03000251

Westchester County

Copland, Aaron, House, 1538 Washington St., Cortlandt Manor, 03000245

Rye Town Park—Bathing Complex and Oakland Beach, Forrest Ave., bet. Rye Beach and Dearborn Ave., Rye, 03000252

St. Thomas' Episcopal Church Complex, 158-168 W. Boston Post Rd., Mamaroneck, 03000242

White Plains Rural Cemetery, 167 N. Broadway, White Plains, 03000247

NORTH CAROLINA

Ashe County

Greer, R.T., and Company Root and Herb Warehouse, 7181 Railroad Grade Rd., jct. of Todd Railroad Grad Rd. at Cranbery Springs Rd., Todd, 03000269

Bertie County

Ashland, NC 45, 0.25 N of jct. with NC 1360, Ashland, 03000268

Buncombe County

Bledsoe Building, 771-783 Haywood Rd., Asheville, 03000267

Carteret County

Morehead City Historic District, Roughly along Fisher St. and Bridges St., from N. 5th St. to N. 12th St., Morehead, 03000266

OHIO

Licking County

Johnstown Jail, 66 W. Pratt St., Johnstown, 03000274

SOUTH CAROLINA

Newberry County

Little Mountain Historic District, Along portions of Pomaria, Church, Main and Mountain Sts., Little Mountain, 03000275

Pickens County

Liberty Colored High School, Jct. of SC 93 and Rosewood St., Liberty, 03000270

Spartanburg County

American Legion Building, 94 W. Park Dr., Spartanburg, 03000271

Union County

McWhirter House, 415 Pacolet St., Jonesville, 03000272

York County

Hill Complex Historic District, York and Shannon Sts., Sharon, 03000273

TENNESSEE

Cumberland County

Crossville Tennessee Highway Patrol Building, 39 Main St., Crossville, 03000281

Davidson County

Woodmont Terrace Apartments, 920 Woodmont, Nashville, 03000280

TEXAS

Dallas County

Chevrolet Motor Company Building, 3221 Commerce, Dallas, 03000277

Ellis County

Highway Garage (Waxahachie MRA), 315 W. Main, Waxahachie, 03000278

Hidalgo County

Casa de Palmas, 101 N. Main St., McAllen, 03000276

Travis County

Connelly—Yerwood House, 1115 E 12th St., Austin, 03000279

Requests for removal have been made for the following resources:

ILLINOIS

Champaign County

Chi Psi Fraternity House (Fraternity and Sorority Houses at the Urbana—Champaign Campus of the University of Illinois MPS), Champaign, 90000115

Clark County

Millhouse Blacksmith Shop, Main and Poplar Sts., Clarksville, 86003156

Kane County

Elgin Milk Condensing Co./Illinois Condensing Co., Brook and Waters Sts., Elgin, 85000267

Sangamon County

Wheeland Haven, E of Riverton on I-72, Riverton, 85000557

KENTUCKY

Hart County

Battle of Munfordville (Boundary Increase) (Munfordville MRA), Mostly W of U.S. 31W near Munfordville, Munfordville vicinity, 01001254

TENNESSEE

Hamilton County

East Side Junior High School 2200 E. Main St., Chattanooga, 87000392

[FR Doc. 03-7948 Filed 4-1-03; 8:45 am]

BILLING CODE 4310-70-P